DEPARTMENT OF COMMERCE

International Trade Administration

[A-557-828]

Ferrosilicon From Malaysia: Amended Preliminary Determination of Sales at Less Than Fair Value and Amended Preliminary Negative Determination of Critical Circumstances

AGENCY: Enforcement and Compliance, International Trade Administration, Department of Commerce.

SUMMARY: The U.S. Department of Commerce (Commerce) is amending the preliminary affirmative determination in the less-than-fair-value (LTFV) investigation of ferrosilicon from Malaysia to correct significant ministerial errors. The period of investigation (POI) is January 1, 2023, through December 31, 2023.

DATES: Applicable December 11, 2024.

FOR FURTHER INFORMATION CONTACT: Jacob Waddell, AD/CVD Operations, Office VI, Enforcement and Compliance, International Trade Administration, U.S. Department of Commerce, 1401 Constitution Avenue NW, Washington, DC 20230; telephone: (202) 482-1369.

SUPPLEMENTARY INFORMATION:

Background

On November 6, 2024, Commerce published in the Federal Register its preliminary affirmative determination in the LTFV investigation of ferrosilicon from Malaysia.¹ On November 8 and 12, 2024, the petitioners ² timely alleged that Commerce made significant ministerial errors in the Preliminary Determination with respect to calculation of the preliminary weighted-average dumping margins for OM Materials Sarawak Sdn. Bhd (OMSA) and Pertama Ferroalloys Sdn. Bhd (Pertama),³ respectively.

¹ See Ferrosilicon from Malaysia: Preliminary Affirmative Determination of Sales at Less than Fair Value, Preliminary Negative Determination of Critical Circumstances, Postponement of Final Determination, and Extension of Provisional Measures, 89 FR 88010 (November 6, 2024) (Preliminary Determination), and accompanying Preliminary Decision Memorandum.

² The petitioners are CC Metals and Alloys, LLC and Ferroglobe USA, TNC.

³ See Petitioners' Letter, “Ministerial Error Allegation Pertaining to OMSA in the Preliminary Determination,” dated November 8, 2024 (Petitioners' OMSA Ministerial Error Allegation); see also “Ministerial Error Allegation Pertaining to Pertama in the Preliminary Determination,” dated November 12, 2024 (Petitioners' Pertama Ministerial Error Allegation).

Scope of the Investigation

The product covered by this investigation is ferrosilicon from Malaysia. For a complete description of the scope of this investigation, see the Preliminary Determination.

Legal Framework

Pursuant to 19 CFR 351.224(e), Commerce will correct any significant ministerial error by amending the preliminary determination. A ministerial error is defined as including errors “in addition, subtraction, or other arithmetic function, clerical error resulting from inaccurate copying, duplication, or the like, and any other similar type of unintentional error which {Commerce} considers ministerial.” ⁴ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁵

⁴ See section 735(e) of the Tariff Act of 1930, as amended (the Act); see also 19 CFR 351.224(f).

⁵ See 19 CFR 351.224(g).

Analysis of Significant Ministerial Errors

In the Preliminary Determination, Commerce made significant ministerial errors within the meaning of section 735(3) of the Act and 19 CFR 35.224(f)-(g) in calculating the weighted-average dumping margins for OMSA and Pertama. Specifically, for OMSA, we included an incorrect currency conversion for OMSA's home market costs.⁶ For Pertama, an error in our aggregation of five third-country market databases resulted in a distortion of the results of the arm's-length test in the comparison market program.⁷

⁶ See Petitioners' OMSA Ministerial Error Allegation; see also Commerce's Memorandum, “Preliminary Analysis Memorandum for OM Materials Sarawak Sdn. Bhd,” dated October 31, 2024.

⁷ See Petitioners' Pertama Ministerial Error Allegation; see also Commerce's Memorandum, “Preliminary Analysis Memorandum for Pertama Ferroalloys Sdn. Bhd,” dated October 31, 2024.

We find that these errors meet the definition of “ministerial errors,” and that the corrections of the errors for OMSA and Pertama result in a change that is at least five absolute percentage points in, and not less than 25 percent of, the margins calculated for OMSA and Pertama in the Preliminary Determination. As such, they constitute significant errors within the meaning of 19 CFR 351.224(g). Accordingly, pursuant to 19 CFR 224(e), Commerce is amending the Preliminary Determination to correct these significant ministerial errors by revising the rates for OMSA, Pertama, and all other producers and/or exporters.⁸

⁸ See Memorandum, “Analysis of Ministerial Error Allegations,” dated concurrently with, and hereby adopted by, this notice (Ministerial Error Memorandum).

For a complete discussion of the alleged ministerial errors, see the Preliminary Ministerial Error Memorandum.

Amended Preliminary Negative Determination of Critical Circumstances

Because we have revised the rates calculated for OMSA, Pertama, and all other producers and/or exporters, we have also amended our preliminary analysis of critical circumstances. In accordance with section 733(e) of the Act and 19 CFR 351.206, Commerce preliminarily finds that critical circumstances do not exist for OMSA, Pertama, and all other companies not individually examined. For a full description of the results of Commerce's critical circumstances analysis, see the Ministerial Error Memorandum.

Amended Preliminary Determination

As a result of correcting the significant ministerial errors, Commerce determines the following estimated weighted-average dumping margins exist:

Exporter/producer | Weighted-average dumping margin (percent) | Cash deposit rate (adjusted for subsidy offsets(s)) (percent)
OM Sarawak Sdn. Bhd | 19.48 | 18.80
Pertama Ferroalloys Sdn. Bhd | 38.19 | 37.91
All Others | 27.73 | 27.17

Disclosure

We intend to disclose the calculations performed for this amended preliminary determination to parties within five days after public announcement or, if there is no public announcement, within five days of the date of publication of this notice, in accordance with 19 CFR 351.224.

Amended Cash Deposits and Suspension of Liquidation

The collection of cash deposits and suspension of liquidation will be revised according to the rates calculated in this amended preliminary determination, in accordance with section 733(d) of the Act. Because this amended preliminary determination results in increased cash deposit rates, these rates will be effective on the date of publication of this notice in the Federal Register. These suspension of liquidation instructions will remain in effect until further notice.

Notification of U.S. International Trade Commission

In accordance with section 703(f) of the Act, we intend to notify the U.S. International Trade Commission of our amended preliminary determination.

Notification to Interested Parties

This notice is issued and published pursuant to sections 703(f) and 777(i) of the Act and 19 CFR 351.205(c).

Dated: December 5, 2024.
Abdelali Elouaradia,
Deputy Assistant Secretary for Enforcement and Compliance.

[FR Doc. 2024-29114 Filed 12-10-24; 8:45 am]

BILLING CODE 3510-DS-P